DEPARTMENT OF ENERGY

University-Industry Partnerships for Aluminum Industry of the Future Program

AGENCY: Idaho Operations Office, Department of Energy.

ACTION: Notice of availability.

SUMMARY: The U.S. Department of Energy (DOE), Idaho Operations Office, is seeking applications from U.S. institutions of higher learning, whether private or public, and their associated research organizations for cost shared research, which will reduce energy consumption, reduce environmental impacts and enhance economic competitiveness of the domestic aluminum industry. This solicitation seeks proposals for fundamental research in support of the development and implementation of energy efficiency technologies for the aluminum industry. Applicants are encouraged to utilize the widest possible range of creative and technically feasible approaches to address research priorities identified by the aluminum industry in the Aluminum Industry Technology Roadmap and the Inert Anode Roadmap.

DATES: The deadline for receipt of applications is 5 p.m. EST on January 11, 2002.

ADDRESSES: The formal solicitation document will be disseminated electronically as Solicitation Number DE-PS07-02ID14270, University-Industry Partnerships for Aluminum Industry of the Future Program, through the Industry Interactive Procurement System (IIPS) located at the following URL: http://e-center.doe.gov.

IIPS provides the medium for disseminating solicitations, receiving financial assistance applications and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the IIPS Homepage at the following URL: http://e-center.doe.gov and then clicking on the “Help” button. Questions regarding the operation of IIPS may be e-mailed to the IIPS Help Desk at IIPS_HelpDesk@e-center.doe.gov or call the help desk at (800) 683-0751.

FOR FURTHER INFORMATION CONTACT: Carol Van Lente, Contract Specialist, at vanlencl@id.doe.gov.

SUPPLEMENTARY INFORMATION: The statutory authority for this program is the Federal Non-Nuclear Energy Research & Development Act of 1974 (P.L. 93-577). Approximately $300,000 to $600,000 in federal funds is expected to be available to fund the first year of selected research efforts. DOE anticipates making approximately three to six cooperative agreement awards each with a budget of $100,000 a year or less and a project performance period of three years or less.

Signed in Washington, D.C. on November 2, 2001.
Mary Ann Masterson,
Assistant General Counsel for Procurement and Financial Assistance.

[FR Doc. 01-28069 Filed 11-7-01; 8:45 am]

BILLING CODE 6450-01-P